DEPARTMENT OF TRANSPORTATION

Federal Motor Carrier Safety Administration

[Docket No. FMCSA-2005-21323]

Withdrawal of Regulatory Guidance Concerning the Use of Surge Brakes on Commercial Motor Vehicles

AGENCY: Federal Motor Carrier Safety Administration (FMCSA), DOT.

ACTION: Notice; withdrawal of regulatory guidance.

SUMMARY: FMCSA withdraws all prior regulatory guidance, previously in the Federal Register, as well as memoranda and letters issued by the Agency, indicating that surge brakes do not meet certain provisions of the Federal Motor Carrier Safety Regulations (FMCSRs). Elsewhere in today's issue of the Federal Register, FMCSA amends the FMCSRs to allow the use of automatic hydraulic inertia brake systems (surge brakes) on trailers when the ratios of gross vehicle weight ratings for the towing-vehicle and trailer are within certain limits.

FOR FURTHER INFORMATION CONTACT: Mr. Luke Loy, Federal Motor Carrier Safety Administration, Office of Policy and Program Development, Vehicle and Roadside Operations Division, Washington, DC 20590, phone (202) 366-0676, fax (202) 366-8842, e-mail luke.loy@dot.gov.

SUPPLEMENTARY INFORMATION: On November 17, 1993, the Federal Highway Administration (FHWA) ¹ published “Regulatory Guidance for the Federal Motor Carrier Safety Regulations,” at 58 FR 60734. The publication included interpretations of 49 CFR 393.48, a rule that requires brakes to be operable at all times, and 49 CFR 393.49, the requirement that the braking system on CMVs be designed such that one brake application valve controls all the brakes on the vehicle. The Agency interpreted the regulations to prohibit the use of surge brakes on Commercial Motor Vehicles (CMVs) operated in interstate commerce. The regulatory guidance was republished on April 4, 1997, at 62 FR 16370.

¹ The Motor Carrier Safety Improvement Act of 1999 [Public Law 106-159, 113 Stat. 1748 (December 9, 1999)] established the FMCSA in the Department of Transportation. On January 4, 2000, the Office of the Secretary published a final rule delegating to the FMCSA Administrator the motor carrier safety functions required by MCSIA, which included certain motor carrier safety functions previously delegated to the FHWA (65 FR 200).

The FMCSA subsequently issued an Enforcement Policy memorandum on September 14, 2004, directing Federal enforcement staff, and requesting State and local enforcement officials, temporarily to allow surge brakes on CMVs operated in interstate commerce, under certain conditions, pending completion of a notice-and-comment rulemaking proceeding through which a determination would be made whether surge brakes should be allowed on a permanent basis. A copy of that Enforcement Policy memorandum is in the docket cited at the beginning of this notice.

A final rule issued by FMCSA, published elsewhere in today's issue of the Federal Register, amends the FMCSRs to allow the use of surge brakes. The final rule defines the term “surge brake”, identifies the requirements for a surge brake system, and allows the use of automatic hydraulic inertia brake systems (surge brakes) on trailers when the ratios of gross vehicle weight ratings for the towing-vehicle and trailer are within certain limits. Therefore, in consideration of the final rule on surge brakes, the Agency withdraws all prior interpretations and regulatory guidance, issued previously in the Federal Register, as well as FMCSA memoranda and letters, stating that surge brakes do not meet the requirements of 49 CFR 393.48 and 393.49.

Issued on: February 26, 2007.
John H. Hill,
Administrator.

[FR Doc. E7-3813 Filed 3-5-07; 8:45 am]

BILLING CODE 4910-EX-P